DEPARTMENT OF JUSTICE

Notice of Lodging of Amended Consent Decree Under the Clean Air Act

In accordance with 28 CFR 50.7, notice is hereby given that on May 22, 2003, a proposed Amended Consent Decree in United States v. Gopher State Ethanol, Inc., (“Gopher State”), Civil Action No. CV02-3793 JEL/RLE, was lodged with the United States District Court for the District of Minnesota.

In this action the United States asserted claims against the owners and operators of an ethanol dry mill in St. Paul, Minnesota, pursuant to section 113(b) of the Clean Air Act (“Act”), 42 U.S.C. 7413(b) (1983), amended by, 42 U.S.C. 7413(b) (Supp. 1991). The United States sought injunctive relief and civil penalties for violations of the Prevention of Significant Deterioration (“PSD”) provisions of the Act and regulations promulgated thereunder. The original Consent Decree with Gopher State was lodged on October 2, 2002. The public comment period closed on January 24, 2003. This Amended Consent Decree includes changes made to the settlement in response to comments received during the public comment period. The changes include additional limitations on Gopher State's “wet cake” production, a by-product of the ethanol manufacturing process used as animal feed, and the requirement to install an additional baghouse for further reductions of particulate matter emissions.

The Department of Justice will receive comments relating to the Gopher State Amended Consent Decree for a period of fifteen (15) days from the date of this publication. Comments should be addressed to the Assistant Attorney General, Environment and Natural Resources Division, P.O. Box 7611, U.S. Department of Justice, Washington, DC 20044-7611, and should refer to: United States v. Gopher State Ethanol, Inc., D.J. Ref. 90-5-2-1-07784/8.

The Amended Consent Decree may be examined at the Office of the Attorney General, NCL Towers Suite 900, 445 Minnesota Street, St. Paul, MN 55101-2127, and at U.S. EPA Region 5, 77 West Jackson Blvd., Chicago, IL 60604. During the public comment period the Amended Consent Decree may also be examined on the following Department of Justice Web site, http://www.usdoj.gov/enrd/open.html. A copy of the Amended Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $9.75 (25 cents per page reproduction cost) payable to the U.S. Treasury.

William D. Brighton,
Assistant Chief, Environmental Enforcement Section Environment and Natural Resources Division.

[FR Doc. 03-14100 Filed 6-4-03; 8:45 am]

BILLING CODE 4410-15-M